DEPARTMENT OF TRANSPORTATION

Federal Motor Carrier Safety Administration

[Docket No. FMCSA-2020-0076]

Trucking Safety Summit; Public Meeting

AGENCY: Federal Motor Carrier Safety Administration (FMCSA), DOT.

ACTION: Notice of public meeting.

SUMMARY: FMCSA announces a public meeting, “The FMCSA 2020 Trucking Safety Summit” on March 19, 2020, to solicit information on improving safe operation of property-carrying commercial motor vehicles on our Nation's roadways. The formal conference will provide invited-stakeholders—including motor carriers, drivers, safety technology developers and users, Federal and State partners, and safety advocacy groups—as well as members of the public an opportunity to share their ideas on improving trucking safety. The event will be held at the U.S. Department of Transportation headquarters building in Washington, DC. A full agenda of the meeting is available on line at http://www.fmcsa.dot.gov.

DATES: The conference will be held Thursday, March 19, 2020, from 9:00 a.m. to 4:30 p.m., EDT, with registration from 8:00 a.m. to 8:50 a.m.

Public Comment: The formal conference will include a brief public comment period in the mid to late afternoon. All persons wishing to speak must register in advance at the email address in the For Further Information Contact section below and note that they wish to provide oral comments. Please limit oral public comments to 2 to 3 minutes. If all interested participants have had an opportunity to comment, the public comment period may conclude early. Due to seating limitations, advanced registration by March 10 is required; FMCSA will cap registration at 200 persons. Persons wishing to propose questions for panelists may do so by emailing the address in the For Further Information Contact section below. Those wishing to submit written comments, data or analysis on trucking safety may do so here: FMCSA-2020-0076.

ADDRESSES: The public meeting will be held in the U.S. Department of Transportation headquarters building at 1200 New Jersey Avenue SE, Washington, DC 20590. Participation in the public meeting is free, but advanced registration is required. You may register at the email address in the For Further Information Contact section below.

FOR FURTHER INFORMATION CONTACT: Ms. Janettarose L. Greene, (202) 366-1927, FMCSA-PIO@dot.gov, Federal Motor Carrier Safety Administration, U.S. Department of Transportation, 1200 New Jersey Avenue SE, Washington, DC 20590-0001.

Services for Individuals with Disabilities: FMCSA is committed to providing equal access to this meeting for all participants. For information on facilities or services for individuals with disabilities or to request special assistance at the meeting, please contact Ms. Greene at the number or email address above by March 6, 2020.

SUPPLEMENTARY INFORMATION:

Background

Data and analysis released by the National Highway Traffic Safety Administration shows that over the last several years there has been an increase in fatalities occurring as a result of crashes involving large trucks. See, for example, Large Truck Traffic Safety Fact Sheet (DOT HS # 812-663, available at https://crashstats.nhtsa.dot.gov/#/). To respond to this trend, FMCSA continues to work with State entities, industry and others to identify new approaches to safety. These approaches can involve technology, company management practices, enforcement, outreach and education, and other techniques—encompassing a holistic approach to truck safety.

FMCSA plans to convene a formal conference, “The FMCSA 2020 Trucking Safety Summit,” on March 19, 2020, to solicit information on improving safe operation of property-carrying commercial motor vehicles on our Nation's roadways. This event will provide diverse stakeholders—including motor carriers, drivers, safety technology developers and users, Federal and State partners, and safety advocacy groups—as well as members of the public an opportunity to share their ideas on improving trucking safety. The sessions are intentionally structured to facilitate an exchange between experienced players in the trucking space, people who might not otherwise meet face-to-face to collaborate. Senior FMCSA personnel will facilitate every session, selecting and posing questions to promote a productive discussion. FMCSA intends to record the session and will follow up with a record of proceedings or Safety Action Plan in the weeks following the event.

The program will include panel presentations from industry, technology innovators, State and FMCSA enforcement personnel and others. Participants in the panels will be announced later. In addition, during and after the panel presentations, conference attendees will have an opportunity to provide oral and written comments.

Meeting Participation

FMCSA will present and solicit information during five panel discussions. FMCSA will provide a live streaming video of the Trucking Safety Summit for interested part to share in the information being presented. Additionally, the Agency will provide an opportunity for the public to participate remotely in the public comment session. The Agency will provide the public with all relevant details for participating in this meeting in advance at: http://www.fmcsa.dot.gov.

Meeting participants will need to register to participate and to gain access to the headquarters building at 1200 New Jersey Avenue SE, in Washington, DC.

Oral comments from the public will be heard during the meeting. Members of the public may also submit written comments to public docket referenced at the beginning of this notice using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

• Hand Delivery: U.S. Department of Transportation, 1200 New Jersey Avenue SE, West Building, Room W12-140, Washington, DC, between 9 a.m. and 5 p.m., E.T. Monday through Friday, except Federal holidays.

Issued on: February 27, 2020.
Jim Mullen,
Acting Administrator.

[FR Doc. 2020-04427 Filed 3-3-20; 8:45 am]

BILLING CODE 4910-EX-P